DEPARTMENT OF HOMELAND SECURITY

Coast Guard

33 CFR Part 165

[Docket No. USCG-2013-1033]

RIN 1625-AA00

Safety Zone; Annual Events Requiring Safety Zones in the Captain of the Port Lake Michigan Zone

AGENCY: Coast Guard, DHS.

ACTION: Notice of enforcement of regulation.

SUMMARY: The Coast Guard will enforce the safety zone in Milwaukee Harbor, Milwaukee, WI for firework displays at Pier Wisconsin at specified times from June 15, 2014 until August 9, 2014. This action is necessary and intended to ensure safety of life on the navigable waters immediately prior to, during, and immediately after fireworks displays. During the aforementioned periods, the Coast Guard will enforce restrictions upon, and control movement of, vessels in the safety zone. No person or vessel may enter the safety zone while it is being enforced without permission of the Captain of the Port, Lake Michigan.

DATES: The regulations in 33 CFR 165.929 will be enforced for safety zone (e)(46) in § 165.929, Table 165.929, from June 15, 2014, through August 9, 2014, at times specified in the SUPPLEMENTARY INFORMATION section.

FOR FURTHER INFORMATION CONTACT: If you have questions on this document, call or email MST1 Joseph McCollum, Prevention Department, Coast Guard Sector Lake Michigan, Milwaukee, WI at (414) 747-7148, email joseph.p.mccollum@uscg.mil.

SUPPLEMENTARY INFORMATION:

The Coast Guard will enforce the Fireworks at Pier Wisconsin safety zone listed as item (e)(46) in Table 165.929 of 33 CFR 165.929 on the dates and times specified in this paragraph. Section 165.929 lists many annual events requiring safety zones in the Captain of the Port Lake Michigan zone. The Fireworks at Pier Wisconsin safety zone will be enforced at the following times for the following events:

(1) Private Party fireworks display on June 15, 2014 from 9:15 p.m. until 10 p.m.;

(2) Private Party fireworks display on June 24, 2014 from 9:30 p.m. until 10:15 p.m.;

(3) Wedding fireworks display on July 12, 2014 from 9:30 p.m. until 10:15 p.m.;

(4) Private Party fireworks display on August 9, 2014 from 10:15 p.m. until 11 p.m.;

This safety zone will encompass all waters of Milwaukee Harbor, including Lakeshore Inlet and the marina at Pier Wisconsin, within the arc of a circle with a 300-foot radius from the fireworks launch site on Pier Wisconsin located in approximate position 43°02′10.7″ N, 087°53′37.5″ W (NAD 83). All vessels must obtain permission from the Captain of the Port, Lake Michigan, or his or her on-scene representative to enter, move within, or exit the safety zone. Vessels and persons granted permission to enter the safety zone must obey all lawful orders or directions of the Captain of the Port, Lake Michigan, or his or her on-scene representative.

This document is issued under authority of 33 CFR 165.929, Safety Zones; Annual events requiring safety zones in the Captain of the Port Lake Michigan zone and 5 U.S.C. 552(a). In addition to this publication in the Federal Register, the Coast Guard will provide the maritime community with advance notification of the enforcement periods via broadcast Notice to Mariners or Local Notice to Mariners. The Captain of the Port, Lake Michigan, or his or her on-scene representative may be contacted via VHF Channel 16.

Dated: May 27, 2014.
M.W. Sibley,
Captain, U.S. Coast Guard, Captain of the Port, Lake Michigan.

[FR Doc. 2014-13272 Filed 6-6-14; 8:45 am]

BILLING CODE 9110-04-P